DEPARTMENT OF LABOR

Employment and Training Administration

[TA-W-52,831]

SPX Dock Products, United Dominion Industries, Inc., Mechanical Dock Lever Division, Carrollton, TX

Amended Certification Regarding Eligibility To Apply for Worker Adjustment Assistance and Negative Determination Regarding Eligibility To Apply for Alternative Trade Adjustment Assistance

In accordance with section 223 of the Trade Act of 1974 (19 U.S.C. 2273) the Department of Labor issued a Certification of Eligibility to Apply for Worker Adjustment Assistance on October 1, 2003, applicable to workers of SPX Dock Products, Mechanical Dock Lever Division, Carrollton, Texas. The notice was published in the Federal Register on November 28, 2003 (68 FR 66880).

At the request of the State agency, the Department reviewed the certification for workers of the subject firm. The workers are engaged in the production of safety lock restraints.

New information shows that some workers separated from employment at the subject firm had their wages reported under a separate unemployment insurance (UI) tax account for United Dominion Industries, Inc.

Accordingly, the Department is amending the certification to properly reflect this matter.

The intent of the Department's certification is to include all workers of SPX Dock Products, United Dominion Industries, Inc., Mechanical Dock Lever Division, Carrollton, Texas, who were adversely affected by a shift in production to Mexico.

The amended notice applicable to TA-W-52,831 is hereby issued as follows:

All workers of SPX Dock Products, United Dominion Industries, Inc., Mechanical Dock Lever Division, Carrollton, Texas, who became totally or partially separated from employment on or after September 3, 2002, through October 1, 2005, are eligible to apply for adjustment assistance under section 223 of the Trade Act of 1974. and

I further determine that all workers of SPX Dock Products, United Dominion Industries, Inc., Mechanical Dock Lever Division, Carrollton, Texas, are denied eligibility to apply for alternative trade adjustment assistance under section 246 of the Trade Act of 1974.

Signed at Washington, DC, this 6th day of February, 2004.
Richard Church,
Certifying Officer, Division of Trade Adjustment Assistance.

[FR Doc. 04-4963 Filed 3-4-04; 8:45 am]

BILLING CODE 4510-30-P